DEPARTMENT OF COMMERCE

National Oceanic and Atmospheric Administration

50 CFR Part 679

[I.D. 090701F]

Fisheries of the Exclusive Economic Zone Off Alaska; King and Tanner Crab Fisheries in the Bering Sea/Aleutian Islands

AGENCY: National Marine Fisheries Service (NMFS), National Oceanic and Atmospheric Administration (NOAA), Commerce.

ACTION: Notice of intent to prepare an environmental impact statement (EIS); request for written comments; notice of scoping meetings.

SUMMARY: NMFS announces its intent to prepare an EIS in accordance with the National Environmental Policy Act of 1969 (NEPA) for the Fishery Management Plan for Bering Sea/Aleutian Islands (BSAI) King and Tanner Crabs (FMP). The North Pacific Fishery Management Council proposes to rationalize the BSAI crab fisheries through an Individual Fishing Quota (IFQ) Program, or a cooperative program. The scope of the EIS will be a programmatic review of the FMP, examining all activities addressing the conduct of the BSAI crab fisheries authorized under the FMP, including components of proposed rationalization programs, and potential changes to the management of the fisheries under these programs.

NMFS will hold public scoping meetings and accept written comments to determine the issues of concern and the appropriate range of management alternatives to be addressed in the EIS.

DATES: Written comments will be accepted through November 16, 2001. A public scoping meeting will be held on Thursday, September 20, 2001, in Anchorage, AK. For dates and times of scoping meetings, see SUPPLEMENTARY INFORMATION.

ADDRESSES: Written comments on issues and alternatives for the EIS should be sent to Sue Salveson, Assistant Regional Administrator for Sustainable Fisheries, Alaska Region, NMFS, P.O. Box 21668, Juneau, AK, 99802, Attn: Lori Gravel, or delivered to the Federal Building, 709 West 9th Street, Juneau, AK. Comments may be sent via facsimile (fax) to 907-586-7557. NMFS will not accept comments by e-mail or the internet. For locations of the public scoping meetings, see SUPPLEMENTARY INFORMATION.

Written comments specifically addressing the Council’s analysis of rationalization programs should be sent to the North Pacific Fishery Management Council, 605 West 4th Street, Suite 306, Anchorage, AK 99501-2252.

FOR FURTHER INFORMATION CONTACT: Gretchen Harrington, (907) 586-7228 or e-mail gretchen.harrington@noaa.gov.

SUPPLEMENTARY INFORMATION: Under the Magnuson-Stevens Fishery Conservation and Management Act (Magnuson-Stevens Act), the United States has exclusive fishery management authority over all living marine resources found within the exclusive economic zone (EEZ). The management of these marine resources, with the exception of marine mammals and birds, is vested in the Secretary of Commerce (Secretary). Eight Regional Fishery Management Councils prepare fishery management plans for approval and implementation by the Secretary. The North Pacific Fishery Management Council (Council) has the responsibility to prepare fishery management plans for the fishery resources that require conservation and management in the EEZ off Alaska.

NEPA requires preparation of an EIS for major Federal actions significantly impacting the quality of the human environment. Regulations implementing NEPA at 40 CFR 1502.4(b) state:

Environmental impact statements may be prepared, and are sometimes required, for broad Federal actions such as adoption of new agency programs or regulations. Agencies shall prepare statements on broad actions so that they are relevant to policy and are timed to coincide with meaningful points in agency planning and decision making.

The FMP was approved by the Secretary on June 2, 1989 (54 FR 29080). The Secretary approved a revised and updated FMP on March 9, 1999 (64 FR 11390). The FMP establishes a State/Federal cooperative management regime that defers many aspects of crab management to the State of Alaska (State), with Federal oversight. The FMP identifies specific aspects of crab management that remain under the jurisdiction of the Federal government, such as limited access.

The FMP is a framework plan for the management measures deferred to the State. For these measures, the framework in the FMP establishes policy objectives and criteria instead of selecting specific management measures. This allows for long-term management of the fishery without frequent amendments to the FMP.

FMP amendments are required for changes to the management measures under Federal jurisdiction and for changes to the framework plan for management measures deferred to the State. FMP amendments are also required to keep the FMP in compliance with the requirements of the Magnuson-Stevens Act.

NMFS has identified the need to prepare an EIS to take a programmatic look at the FMP and possible alternatives to the FMP in light of Council consideration of a program to rationalize the BSAI crab fisheries. NMFS recognizes that the rationalization programs under consideration will result in substantial changes to many of the current management measures and possibly the framework of the FMP and that these programmatic changes may significantly affect the environment. NMFS views this as an opportune time to analyze these potential changes as well as analyze alternative ways to manage the BSAI crab fisheries.

The proposed action to be addressed in the EIS is the rationalization of the BSAI crab fisheries. Given this proposed action, the scope of the EIS will be a programmatic review of the FMP, examining all activities addressing the conduct of the BSAI crab fisheries authorized under the FMP, including components of proposed rationalization programs and potential changes to the management of the fisheries under these programs. The scope of the analysis is intended to be broad enough for the Council and NMFS to make an informed decision on a rationalization program and to undertake further analysis of other changes to the FMP as necessary with the implementation of these programs.

NMFS is seeking information from the public through the scoping process on the range of alternatives to be analyzed and on the environmental, social, and economic issues to be considered in the analysis.

Alternatives

NMFS will evaluate a range of alternative FMPs for managing the BSAI crab fisheries. Alternatives analyzed in the EIS may include those identified here, plus additional alternatives developed through the public scoping process and through working with the Council and the State. Each alternative would constitute a complete FMP, that would include an approach for every aspect needed in an FMP.

The potential alternatives already identified for the EIS include: (1) The existing FMP (no action) and (2) an FMP as modified by a rationalization program (IFQ or cooperatives).

The Council will recommend the specific alternative for the rationalization program in early 2002. In June 2001, the Council adopted a suite of alternatives, elements, and options for an analysis of potential rationalization programs for the BSAI crab fisheries. These alternatives, elements, and options were developed through the Council’s rationalization committee, Advisory Panel meetings, and Council meetings. Congressional action would be required to provide statute authority to implement the alternatives under Council consideration.

Public Involvement

Scoping is an early and open process for determining the scope of issues to be addressed and for identifying the significant issues related to the proposed action. A principal objective of the scoping and public involvement process is to identify a reasonable range of management alternatives that, with adequate analysis, will delineate critical issues and provide a clear basis for distinguishing between those alternatives and selecting a preferred alternative.

NMFS is seeking written public comments on the scope of issues that should be addressed in the EIS and alternatives that should be considered for management of the BSAI crab fisheries.

Public comments on specific aspects of the rationalization programs should be submitted to the Council (see ADDRESSES). The public will also be able to provide oral and written comments through the Council process and at Council meetings. Upon completion, the Council will make a draft analysis of these proposed programs available for public review and comment. Copies of the analysis can be requested from the Council (see ADDRESSES).

Dates, Times, and Locations for Public Information Meetings

The public is invited to assist NMFS in developing the scope of alternatives and issues to be analyzed for the EIS. Comments will be accepted in writing at the meetings and at the NMFS address (see ADDRESSES).

One public scoping meeting will be held on Thursday, September 20, 2001, from 2 to 4 p.m., at the Hilton Hotel, 500 West 3rd Street, Anchorage, Alaska, in conjunction with the Council’s Crab Plan Team meeting.

Two additional scoping meetings will be held in Seattle, Washington: One, on Monday, October 1, 2001, from 2:30 to 4:30 p.m., at the Leif Erikson Hall, 2245 N.W. 57th Street, in conjunction with the Annual Bering Sea/ Aleutian Islands Crab Industry Meeting; and the second on Thursday, October 4, 2001, from 7 to 9 p.m., at the Sea-Tac airport Doubletree, 18740 International Blvd., in conjunction with the October Council meeting.

Special Accommodations

These meetings are physically accessible to people with disabilities. Requests for sign language interpretation or other auxiliary aids should be directed to Gretchen Harrington, NMFS, (see ADDRESSES), (907) 586-7228, at least 5 days prior to the meeting date.

Authority: 16 U.S.C. 1801 et seq.

Dated: September 14, 2001.
Richard W. Surdi,
Acting Director, Office of Sustainable Fisheries, National Marine Fisheries Service.

[FR Doc. 01-23470 Filed 9-17-01; 2:29 pm]

BILLING CODE 3510-22-S